DEPARTMENT OF HOMELAND SECURITY

Coast Guard

[USCG-2011-0975]

National Maritime Security Advisory Committee; Meeting

AGENCY: Coast Guard, DHS.

ACTION: Notice of Federal Advisory Committee Meeting.

SUMMARY: The National Maritime Security Advisory Committee (NMSAC) will meet on January 18-19, 2012 in Washington, DC to discuss various issues relating to national maritime security. This meeting will be open to the public.

DATES: The Committee will meet on Wednesday, January 18, 2012 from 9 a.m. to 3 p.m. and Thursday, January 19, 2012 from 9 a.m. to 12 p.m. This meeting may close early if all business is finished.

All written material and requests to make oral presentations should reach the Coast Guard on or before January 9, 2012.

ADDRESSES: The Committee will meet at the American Bureau of Shipping, 1400 Key Blvd., Suite 800, Arlington, VA 22209. Seating is very limited, members of the public wishing to attend should register with Mr. Ryan Owens, Alternate Designated Federal Official (ADFO) of NMSAC, telephone (202) 372-1108 or ryan.f.owens@uscg.mil no later than January 9, 2012. Additionally, this meeting will be broadcasted via a web enabled interactive online format and teleconference.

To participate via teleconference, dial (866) 717-0091, the pass code to join is 3038389#. Additionally, if you would like to participate in this meeting via the online web format, please log onto https://connect.hsin.gov/r11254182 and follow the online instructions to register for this meeting.

For information on facilities or services for individuals with disabilities or to request special assistance at the meeting, contact the person listed in the FOR FURTHER INFORMATION CONTACT section as soon as possible.

To facilitate public participation, we are inviting public comment on the issues to be considered by the committee as listed in the “Agenda” section below. You may submit written comments no later than January 9, 2012, and identified by docket number [USCG-2011-0975] using one of the following methods:

• Federal eRulemaking Portal: http://www.regulations.gov. Follow the instruction for submitting comments.

• Mail: Docket Management Facility (M-30), U.S. Department of Transportation, West Building Ground Floor, Room W12-140, 1200 New Jersey Avenue SE., Washington, DC 20590-0001. We encourage use of electronic submissions because security screening may delay delivery of mail.

• Fax: (202) 493-2251.

• Hand Delivery: Same as mail address above, between 9 a.m. and 5 p.m., Monday through Friday, except Federal Holidays. The telephone number is (202) 366-9329.

Instructions: All submissions received must include the words “Department of Homeland Security” and docket number [USCG-2011-0975]. All submissions received will be posted without alteration at www.regulations.gov, including any personal information provided. You may review a Privacy Act notice regarding our public dockets in the January 17, 2008 issue of the Federal Register (73 FR 3316).

Docket: Any background information or presentations available prior to the meeting will be published in the docket. For access to the docket to read background documents or submissions received by the NMSAC, go to http://www.regulations.gov, insert “USCG-2011-0975) in the “Keyword” box, and then click “Search”.

Public comment period will be held during the meetings on January 18, 2012, from 2 p.m. to 3 p.m., and January 19, 2012 from 11 a.m. to 12 p.m. Speakers are requested to limit their comments to 5 minutes. Please note that the public comment period will end following the last call for comments. Contact the person listed in the FOR FURTHER INFORMATION CONTACT section below to register as a speaker.

FOR FURTHER INFORMATION CONTACT: Mr. Ryan Owens, ADFO of NMSAC, 2100 2nd Street SW., Stop 7581, Washington, DC 20593-7581; telephone (202) 372-1108 or email ryan.f.owens@uscg.mil. If you have any questions on viewing or submitting material to the docket, call Renee V. Wright, Program Manager, Docket Operations, telephone (202) 366-9826.

SUPPLEMENTARY INFORMATION: Notice of this meeting is given under the Federal Advisory Committee Act, 5 U.S.C. App. NMSAC operates under the authority of 46 U.S.C. 70112. NMSAC provides advice, consults with, and makes recommendations to the Secretary of Homeland Security, via the Commandant of the Coast Guard, on matters relating to national maritime security.

Agenda of Meeting

Day 1

The agenda for the Committee meeting is as follows:

(1) Maritime Domain Awareness and Information Sharing. The Committee will hold a discussion and will be tasked with developing guidelines and recommendations for the Coast Guard in enhancing information sharing between the maritime industry and the Federal Government;

(2) Maritime Transportation Security Act/Chemical Facility Anti-Terrorism Standards Harmonization. The Committee will receive a brief and offer recommendations on the harmonization efforts of the Coast Guard and the Department of Homeland Security for these two regulatory programs;

(3) Transportation Worker Identification Credential. The TWIC working group will provide an update on the implementation of the TWIC program from the industry perspective. The Transportation Security Administration will also provide an update on the development of TWIC readers;

(4) Public comment period.

Day 2

(1) Maritime Transportation Security Act (MTSA). The Committee will be briefed on upcoming regulatory actions associated with updates to MTSA;

(2) Global Supply Chain Security Initiative. Per the SAFE Port Act (Pub. L. 109-347) NMSAC continues to be consulted in regards to the Global Supply Chain Security Initiative. The Committee will receive an update on this initiative;

(3) Requirements for vessel guards while in port. NMSAC will review and provide comment on requirements for vessels to post or contract for guards while in US ports;

(4) Underwater Terrorism Preparedness Program. NMSAC will receive a brief on the Coast Guard Underwater Terrorism Preparedness Program;

(5) Public comment period.

Dated: December 29, 2011.
P.F. Thomas,
Captain, U.S. Coast Guard, Acting Director of Prevention Policy.

[FR Doc. 2012-105 Filed 1-6-12; 8:45 am]

BILLING CODE 9110-04-P